DEPARTMENT OF TRANSPORTATION

Federal Aviation Administration

14 CFR Part 39

[Docket No. 2002-SW-36-AD; Amendment 39-12934; AD 2002-22-09]

RIN 2120-AA64

Airworthiness Directives; Eurocopter France Model AS332C, L, and L1 Helicopters

AGENCY: Federal Aviation Administration, DOT.

ACTION: Final rule; request for comments.

SUMMARY: This amendment adopts a new airworthiness directive (AD) for the specified Eurocopter France (ECF) model helicopters. This action requires, before further flight, inserting statements into the Limitations section of the Rotorcraft Flight Manual (RFM) prohibiting flight under certain atmospheric conditions. Also, this AD requires inspecting the bullet seal on the multi-purpose air intake (MPAI) to determine the pressure and, if the pressure is less than 3 bars on one or both of the sides, replacing the P2 pipe with an airworthy P2 pipe within a specified time interval. This amendment is prompted by the discovery of unairworthy P2 pipes, which might cause insufficient inflation of the bullet seal on the MPAI. This condition, if not detected, could restrict airflow into the engine inlet during flight in icing conditions, resulting in loss of engine power and subsequent loss of control of the helicopter.

DATES: Effective November 21, 2002.

The incorporation by reference of certain publications listed in the regulations is approved by the Director of the Federal Register as of November 21, 2002.

Comments for inclusion in the Rules Docket must be received on or before January 6, 2003.

ADDRESSES: Submit comments in triplicate to the Federal Aviation Administration (FAA), Office of the Regional Counsel, Southwest Region, Attention: Rules Docket No. 2002-SW-36-AD, 2601 Meacham Blvd., Room 663, Fort Worth, Texas 76137. You may also send comments electronically to the Rules Docket at the following address: 9-asw-adcomments@faa.gov.

The service information referenced in this AD may be obtained from American Eurocopter Corporation, 2701 Forum Drive, Grand Prairie, Texas 75053-4005, telephone (972) 641-3460, fax (972) 641-3527. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Ed Cuevas, Aviation Safety Engineer, FAA, Rotorcraft Directorate, Regulations Group, Fort Worth, Texas 76193-0111, telephone (817) 222-5355, fax (817) 222-5961.

SUPPLEMENTARY INFORMATION: The Direction Generale De L'Aviation Civile (DGAC), the airworthiness authority for France, notified the FAA that an unsafe condition may exist on the specified helicopter models. The DGAC advises of the discovery of noncompliant P2 pipes, which might cause insufficient inflation of the bullet seal and lead to engine flame-out during flight in icing condition.

Eurocopter has issued Alert Telex No. 30.00.52 R1, dated April 10, 2002 (Telex), which adds limitations for flight into icing conditions, provides procedures for checking the bullet seal, and specifies replacing any P2 pipe if the pressure on the pressure gage is below 3 bars on one or on both sides. The DGAC classified this Telex as mandatory and issued AD No. 2002-257-080(A), dated May 15, 2002, to ensure the continued airworthiness of these helicopters in France.

These helicopter models are manufactured in France and are type certificated for operation in the United States under the provisions of 14 CFR 21.29 and the applicable bilateral agreement. Pursuant to the applicable bilateral agreement, the DGAC has kept the FAA informed of the situation described above. The FAA has examined the findings of the DGAC, reviewed all available information, and determined that AD action is necessary for products of these type designs that are certificated for operation in the United States.

This unsafe condition is likely to exist or develop on other helicopters of these same type designs registered in the United States. Therefore, this AD is being issued to prevent restricted airflow into the engine inlet during flight in certain atmospheric conditions conductive to icing that could result in loss of complete engine power and subsequent loss of control of the helicopter. This AD requires, before further flight, inserting statements into the Limitations section of the RFM prohibiting flight under certain atmospheric conditions. Also, this AD requires within 10 hours time-in-service (TIS), inspecting the bullet seal on the MPAI to determine the pressure. If the pressure is less than 3 bars on either side, this AD requires, within 100 hours TIS, replacing each unairworthy P2 pipe with an airworthy P2 pipe, which is terminating action for the requirements of this AD. The actions must be done in accordance with the Telex described previously.

None of the Model AS332C, L, or L1 helicopters currently on the U.S. Register have the MPAI installed. All helicopters that have the MPAI installed, included in the applicability of this rule, are currently operated by non-U.S. operators under foreign registry; therefore, they are not directly affected by this AD action. However, the FAA considers that this rule is necessary to ensure that the unsafe condition is addressed in the event that any of these subject helicopters have the MPAI installed in the future.

Should an MPAI be installed on an affected helicopter in the future, the FAA estimates that it would require:

• 1 work hour to insert statements into the RFM,

• 3 work hours to conduct the pressure test,

• 15 work hours to replace both pipes,

• $60 per work hour labor rate, and

• $1400 in material costs to replace two pipes.

Based on these figures, the cost impact of this AD would be $2540 per helicopter.

Since this AD action does not affect any helicopter that is currently on the U.S. register, it has no adverse economic impact and imposes no additional burden on any person. Therefore, notice and public procedures hereon are unnecessary and the amendment may be made effective in less than 30 days after publication in the Federal Register.

Since a situation exists that requires the immediate adoption of this regulation, it is found that notice and opportunity for prior public comment hereon are unnecessary, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available in the Rules Docket for examination by interested persons. A report that summarizes each FAA-public contact concerned with the substance of this AD will be filed in the Rules Docket.

Commenters wishing the FAA to acknowledge receipt of their mailed comments submitted in response to this rule must submit a self-addressed, stamped postcard on which the following statement is made: “Comments to Docket No. 2002-SW-36-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that notice and prior public comment are unnecessary in promulgating this regulation; therefore, it can be issued immediately to correct an unsafe condition in aircraft since none of these model helicopters are registered in the United States. The FAA has also determined that this regulation is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2002-22-09 Eurocopter France: Amendment 39-12934. Docket No. 2002-SW-36-AD.

Applicability: Model AS332C, L, and L1 helicopters, with an electrical multi-purpose air intake (MPAI) modified per MOD 332A07-25974, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (d) of this AD. The request should include an assessment of the effect of the modification, alteration, or repair on the unsafe condition addressed by this AD; and if the unsafe condition has not been eliminated, the request should include specific proposed actions to address it.

Compliance: Required as indicated, unless accomplished previously.

To prevent restricted airflow into the engine inlet during flight in icing conditions resulting in loss of engine power and subsequent loss of control of the helicopter, accomplish the following:

(a) Before further flight, insert the following statement into the Limitations section of the Rotorcraft Flight Manual (RFM).

“It is forbidden to fly into clouds or in fog at an outside air temperature (OAT) equal to or lower than plus 3° Celsius.

It is forbidden to fly in rain at an OAT within the following temperature ranges:

Equal to or above minus 3° Celsius and

Equal to or lower than plus 3° Celsius.

It is forbidden to takeoff, hover, or fly in snow at an OAT equal to or above minus 3° Celsius.”

(b) Within 10 hours TIS, inspect the bullet inflation on the electrical MPAI and determine the pressure in accordance with the Accomplishment Instructions, paragraphs 2.A. and 2.B. of Eurocopter Alert Telex No. 30.00.52 R1, dated April 10, 2002 (Telex).

(1) If the pressure reads three or more bars, the system is operating properly.

(2) If the pressure is less than 3 bars on either side, within 100 hours TIS, replace each unairworthy P2 pipe with an airworthy P2 pipe in accordance with the Accomplishment Instructions, paragraphs 2.D.1, 2.D.2, and 3. of the Telex.

(c) A satisfactory pressure check of less than 3 bars on both sides or replacing each unairworthy P2 pipe with an airworthy P2 pipe is terminating action for the requirements of this AD.

(d) An alternative method of compliance or adjustment of the compliance time that provides an acceptable level of safety may be used if approved by the Manager, Regulations Group, FAA. Operators shall submit their requests through an FAA Principal Maintenance Inspector, who may concur or comment and then send it to the Manager, Regulations Group.

Note 2: Information concerning the existence of approved alternative methods of compliance with this AD, if any, may be obtained from the Regulations Group.

(e) Special flight permits may be issued in accordance with 14 CFR 21.197 and 21.199 to operate the helicopter to a location where the requirements of this AD can be accomplished.

(f) The inspection and pipe replacement shall be done in accordance with the Accomplishment Instructions, paragraphs 2.A., 2.B., 2.D.1, 2.D.2, and 3. of Eurocopter Alert Telex No. 30.00.52 R1, dated April 10, 2002. This incorporation by reference was approved by the Director of the Federal Register in accordance with 5 U.S.C. 552(a) and 1 CFR part 51. Copies may be obtained from American Eurocopter Corporation, 2701 Forum Drive, Grand Prairie, Texas 75053-4005, telephone (972) 641-3460, fax (972) 641-3527. Copies may be inspected at the FAA, Office of the Regional Counsel, Southwest Region, 2601 Meacham Blvd., Room 663, Fort Worth, Texas; or at the Office of the Federal Register, 800 North Capitol Street, NW., suite 700, Washington, DC.

(g) This amendment becomes effective on November 21, 2002.

Note 3: The subject of this AD is addressed in Direction Generale De L'Aviation Civile (France) AD No. 2002-257-080(A), dated May 15, 2002.

Issued in Fort Worth, Texas, on October 24, 2002.
David A. Downey,
Manager, Rotorcraft Directorate, Aircraft Certification Service.

[FR Doc. 02-27790 Filed 11-5-02; 8:45 am]

BILLING CODE 4910-13-P